ENVIRONMENTAL PROTECTION AGENCY

[FRL-7394-4]

RIN 2040-AD55

Public Meetings on the Effluent Limitations Guidelines and New Source Performance Standards for the Concentrated Aquatic Animal Production (CAAP) Point Source Category

AGENCY: U.S. Environmental Protection Agency (EPA).

ACTION: Notice of public meeting.

SUMMARY: The Office of Science and Technology within EPA's Office of Water is conducting public meetings during the comment period to discuss the proposed effluent limitations guidelines and standards for the CAAP industry. EPA will sponsor three public meetings throughout the United States to give everyone an opportunity to attend. No registration is required for these meetings. EPA will report on the status of the regulatory development, and the public can ask questions and provide information and ideas to the Agency on key technical, scientific, economic, and other issues.

DATES: The public meeting dates are:

1. October 30, 2002, 9 a.m. to 12 noon, Washington, DC.

2. November 6, 2002, 9 a.m. to 12 noon, Seattle, WA.

3. November 12, 2002, 9 a.m. to 12 noon, Atlanta, GA.

ADDRESSES: The meeting locations are:

1. Washington—EPA East (Room 1153), 1201 Constitution Avenue, Washington, DC 20460. The closest Metro stop is Federal Triangle.

2. Seattle—EPA Region 10 Building (Nisqually-Pend Orielle—Quinalt—Shoshone Conference Room), 1200 6th Avenue, Seattle, WA 98101. You can find more information on Seattle transportation, directions, etc. on the following Web site: http://yosemite.epa.gov/R10/EXTAFF.NSF/webpage/visiting+our+offices?OpenDocument.

3. Atlanta—Sam Nunn Atlanta Federal Center (Atlanta-Augusta Room), 61 Forsyth St, SW, Atlanta, GA 30303. You can find more information on Atlanta hotels, transportation, etc. at http://www.epa.gov/region4/visitors/transpor1.htm.

FOR FURTHER INFORMATION CONTACT: Marta Jordan, Engineering and Analysis Division (4303), U.S. EPA, 1200 Pennsylvania Ave NW., Washington DC 20460. Telephone (202) 566-1049, fax (202) 566-1053 or e-mail jordan.marta@epa.gov.

SUPPLEMENTARY INFORMATION: On September 12, 2002 (67 FR 57871), EPA proposed effluent limitations guidelines and standards for the CAAP Category under authority of the Clean Water Act (33 U.S.C. 1251 et seq.). The proposed regulations would apply to discharges from certain facilities in the CAAP Category that grow, contain or produce aquatic animals at amounts above 100,000 pounds for three subcategories: flow-through, recirculating and net pen systems. EPA did not propose to amend the National Pollutant Discharge Elimination System permitting regulations that define the facilities subject to permits. The proposed effluent guidelines and standards would apply to many, but not all CAAP facilities.

The public meetings will include a discussion of the scope of the regulation (including subcategorization), a summary of industry information, technology-based regulatory options, and general CAAP industry issues. Because EPA did not propose pretreatment standards for CAAP facilities, meeting agendas do not include pretreatment. Although EPA will not record and transcribe these meetings, EPA will prepare meeting summaries and add them to the rulemaking record.

If you need special accommodations at these meetings, such as wheelchair access or special audio-visual needs, you should contact the following at least five business days before the meeting so that EPA can make appropriate arrangements:

• Marta Jordan at (202) 566-1049 for the meeting in Washington, DC.

• Cathe Bell at (206) 553-0308 and/or Margaret/Maria (audio-visual needs) at (206) 553-1050 for the meeting in Seattle. You can also use the following Web site to find information on directions, lodging, and transportation: http://yosemite.epa.gov/R10/EXTAFF.NSF/webpage/visiting+our+offices?OpenDocument.

• Gary Hosmer at (404) 562-8151 for the meeting in Atlanta. You can also use the following Web site to find information on directions, lodging, and transportation: http://www.epa.gov/region4/visitors/transpor1.htm.

Those who are unable to attend the meeting can get a copy of the presentation and meeting materials after the meeting by making an e-mail or telephone request to Mrs. Marta E. Jordan, see the FOR FURTHER INFORMATION CONTACT section above.

Dated: October 10, 2002.
Geoffrey H. Grubbs,
Director, Office of Science and Technology.

[FR Doc. 02-26442 Filed 10-16-02; 8:45 am]

BILLING CODE 6560-50-P